DEPARTMENT OF HOMELAND SECURITY

Agency Information Collection Activities: Case Submission Form, Case Assistance Form; (Form DHS-7001), Online Ombudsman Form DHS-7001

AGENCY: Office of the Citizenship and Immigration Service Ombudsman, DHS.

ACTION: 30-Day Notice and request for comments; Revision of a currently approved collection.

SUMMARY: The Department of Homeland Security, Office of the Citizenship and Immigration Service Ombudsman, will submit the following information collection request (ICR) to the Office of Management and Budget (OMB) for review and clearance in accordance with the Paperwork Reduction Act of 1995 (Pub. L. 104-13, 44 U.S.C. Chapter 35). DHS previously published this information collection request (ICR) in the Federal Register on July 18, 2011 at 76 FR 42129, for a 60-day public comment period. No comments were received by DHS. The purpose of this notice is to allow additional 30-days for public comments.

DATES: Comments are encouraged and will be accepted until November 4, 2011. This process is conducted in accordance with 5 CFR 1320.10.

ADDRESSES: Interested persons are invited to submit written comments on the proposed information collection to the Office of Information and Regulatory Affairs, Office of Management and Budget. Comments should be addressed to OMB Desk Officer, Department of Homeland Security and sent via electronic mail to oira_submission@omb.eop.gov or faxed to (202) 395-5806. The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

FOR FURTHER INFORMATION CONTACT: If additional information is required contact: Office of the Citizenship and Immigration Services Ombudsman, DHS, Attn.: Chief of Special Programs, Mail Stop 1225, Washington, DC 20528-1225. Comments may also be submitted to DHA via facsimile to 202-272-8352, 202-357-0042 or via e-mail at rfs.regs@dhs.gov or cisombudsman@dhs.gov.

SUPPLEMENTARY INFORMATION: The Citizenship and Immigration Services (CIS) Ombudsman was created under section 452 of the Homeland Security Act of 2002 (Public Law 107-296) to: (1) Assist individuals and employers in resolving problems with the U.S. Citizenship and Immigration Services (USCIS); (2) to identify areas in which individuals and employers have problems in dealing with USCIS; and (3) to the extent possible, propose changes in the administrative practices of USCIS to mitigate problems. This form is used by an applicant who is experiencing problems with USCIS during the processing of an immigration benefit.

The information collected on this form will allow the CIS Ombudsman to identify the issue such as: (1) A case problem which is a request for information about a case that was filed with USCIS (“case problem”); or (2) the identification of a systemic issue that may or may not pertain to an individual case which the individual, attorney or employer is seeking to bring to the attention of the CIS Ombudsman (“trend”). For case problems, the CIS Ombudsman will refer case specific issues to the Customer Assistance Office for USCIS for further research, and review.

For trends received, the CIS Ombudsman notes the systemic issue identified in the correspondence which may or may not be incorporated into future recommendations submitted to the Director of USCIS pursuant to section 452(d)(4) of Public Law 107-296.

The use of this form provides the most efficient means for collecting and processing the required data. The CIS Ombudsman anticipates employing the use of information technology in collecting and processing information by offering the option for electronic submission of the DHS Form 7001 in FY2012. The technology for electronic capture of this data is in the final phase of development with successful testing of a pilot version conducted in the 4th quarter of FY2010. We are requesting a two year approval for the form anticipating Government Paperwork Elimination Act compliance for electronic means for collections to be developed and deployed by FY2012. We plan to submit any required paperwork to amend this document for the electronic version of this form during FY2011. There has been no increase or decrease in the estimated annual burden hours previously reported for this information collection. There is no change in the information being collected, however there have been cosmetic changes to the form including punctuation and formatting. The title of the form has changed from “Case Problem Submission Worksheet (CIS Ombudsman Form DHS-7001)” to “Case Assistance Form (Form DHS-7001)” The name of the system has changed from “Virtual Ombudsman System” to “Online Ombudsman Form DHS-7001”. The instructions have been updated to reflect the electronic submission options. Instructions for electronic submission will be posted on the CIS Ombudsman Web site at http://www.dhs.gov/cisombudsman.

The terms of clearance from the previously approved collection have been addressed by updates to the: (a) Privacy Impact Assessment for the Office of the Citizenship & Immigration Services Ombudsman (CISOMB) Virtual Ombudsman System (March 19, 2010); and the (b) Systems of Records Notice: 9110-9B Department of Homeland Security, Office of the Secretary [Docket No. DHS-2009-0146] Privacy Act of 1974; Department of Homeland Security Citizenship and Immigration Services Ombudsman—001 Virtual Ombudsman System (March 2010) to reflect the name change to Online Ombudsman Form DHS-7001 System of Records.

Analysis

Agency: Office of the Citizenship and Immigration Service Ombudsman, DHS.

Title: Case Submission Form.

OMB Number: 1601-0004.

Frequency: On Occasion.

Affected Public: Individuals or Household.

Number of Respondents: 2,600.

Estimated Time Per Respondent: 1 Hour.

Total Burden Hours: 2,600.

Dated: September 27, 2011.
Richard Spires,
Chief Information Officer.

[FR Doc. 2011-25609 Filed 10-4-11; 8:45 am]

BILLING CODE 9110-9B-P